ENVIRONMENTAL PROTECTION AGENCY

[ER-FRL-6673-3]

Environmental Impacts Statements; Notice of Availability

Responsible Agency: Office of Federal Activities, General Information (202) 564-7167 or http://www.epa.gov/compliance/nepa/.

Weekly receipt of Environmental Impact Statements

Filed March 6, 2006 Through March 10, 2006

Pursuant to 40 CFR 1506.9.

EIS No. 20060077, Draft EIS, COE, FL, Central and Southern Florida Project, New Authorization for Broward County Water Preserve Areas, South Florida Water Management District (SFWMD), Comprehensive Everglades Restoration Plan, (CERP), Broward County, FL, Comment Period Ends: May 1, 2006, Contact: Michael Dupes 904-232-1689.

EIS No. 20060078, Final EIS, NOA, TX, Programmatic—Texas National Estuarine Research Reserve and Management Plan, Mission-Aransas Estuary, Site Designation, Federal Approval, TX, Wait Period Ends: April 17, 2006, Contact: Laurie McGilvray 301-713-3155-Ext. 158.

EIS No. 20060079, Final EIS, FHW, WI, WI-83 Highway Improvements, County NN in Mukwonago to WI-16 in Hartland, Funding and U.S. Army COE Section 404 Permit Issuance, Waukesha County, WI, Wait Period Ends: April 17, 2006, Contact: David Scott 608-829-7522.

EIS No. 20060080, Final EIS, AFS, WA, Methow Transmission Project, Construction of New Transmission Line or Reconstruction an Existing Line, Okanogan and Wenatchee National Forests, Methow Valley Ranger District, Okanogan County, WA, Wait Period Ends: April 17, 2006, Contact: Jan Flatten 509-826-3277.

EIS No. 20060081, Draft EIS, FHA, AR, River Valley Intermodal Facilities, Construction and Operation of Multi-Modal Transportation Complex, U.S. Army COE Section 10 and 404 Permits, City of Russellville, Pope County, AR, Comment Period Ends: May 3, 2006, Contact: Randal Looney 501-324-6430.

EIS No. 20060082, Draft Supplement, USA, AK, U.S. Army Alaska Battle Area Complex (BAX) and a Combined Arms Collective Training Facility (CACTF), Construction and Operation, Additional Information on Site Alternative, within U.S. Army Training Lands in Alaska, Comment Period Ends: May 1, 2006, Contact: Kevin Gardner 907-384-3331.

Amended Notices

EIS No. 20050548, Draft EIS, NPS, NC, North Shore Road, Great Smoky Mountains National Park, General Management Plan, Implementation, Fontana Dam, Swain County, NC, Comment Period Ends: April 7, 2006, Contact: Imelda Wegwerth 865-436-1302.

Revision to Federal Register Notice Published January 6, 2006: Comment Period Extended from March 20, 2006 to April 7, 2006.

EIS No. 20060030, Final Supplement, COE, IL, Sugar Creek Municipal Water Supply, Updated Information, Proposed New 1172 Acre Water Supply Reservoir, Construction, COE Section 404 Permit Issuance, City of Marion, Williamson and Johnson Counties, IL, Wait Period Ends: March 29, 2006, Contact: Greg Mackay 502-315-6685.

Revision to Federal Register Notice Published February 3, 2006: Comment Period Extended from March 6, 2006 to March 29, 2006.

EIS No. 20060064, Draft EIS, AFS, PA, Willow Creek All-Terrain Vehicle Trail Expansion, Improvements, located in Merseburg/Sticker Intensive Use Area, Allegheny National Forest, McLean County, PA, Comment Period Ends: April 17, 2006, Contact: Mark Conn 814-723-5150.

Revision of Notice Public in Federal Register on March 3, 2006. Correction to Agency from FHW to AFS.

Dated: March 14, 2006.
Robert W. Hargrove,
Director, NEPA Compliance Division, Office of Federal Activities.

[FR Doc. E6-3911 Filed 3-16-06; 8:45 am]

BILLING CODE 6560-50-P